DEPARTMENT OF DEFENSE

Office of the Secretary

Draft Deputy Secretary of Defense Policy Memorandum, Subject: Ensuring the Quality of Information Disseminated by the Department of Defense

AGENCY: Assistant Secretary of Defense for Command, Control, and Communications, DoD.

ACTION: Notice of availability.

SUMMARY: The Office of Management and Budget (OMB) has provided all government agencies guidelines for ensuring and maximizing the quality, objectivity, utility, and integrity of information disseminated to the public. OMB has directed the agencies to publish a notice in the Federal Register, by May 1, 2002, that their draft policies complying with the OMB requirement is available for public view and comment on their public web sites. The draft Department of Defense Memorandum provides policy and procedural guidance for DoD Components in accordance with OMB directions. It also assigns responsibilities, establishes administrative mechanisms that allow affected persons to seek and obtain correction of information maintained and disseminated by DoD Components which may not meet the quality standards and delineates reporting requirements. The draft Policy Memorandum is available on the Assistant Secretary of Defense for Command, Control, Communications, and Intelligence (ADS(C3I)) public web site located at http://www.c3i.osd.mil/org/cio/index.html.

DATES: Consideration will be given to all comments received on or before May 30, 2002.

ADDRESSES: Submit comments to Ellen Law, OADS(C3I), Office of the Assistant Secretary of Defense for Command, Control, Communications and Intelligence/Chief Information Officer, 6000 Defense Pengaton, Washington, DC 20301-6000.

FOR FURTHER INFORMATION CONTACT: Ms. Ellen Law, OADS(C3I), 703-602-0980 Ext. 121, Ellen.law@osd.mil.

Dated: April 24, 2002.
Patricia L. Toppings,
Alternate OSD Federal Register Liaison Officer, Department of Defense.

[FR Doc. 02-10519 Filed 4-29-02; 8:45 am]

BILLING CODE 5001-08-M